DEPARTMENT OF ENERGY

Federal Energy Regulatory Commission

[Docket No. IS17-522-000]

Supplemental Notice of Technical Conference; Colonial Pipeline Company

On September 29, 2017, a notice was issued stating that a technical conference will be held to address the effect of the tariff changes proposed by Colonial Pipeline Company in its June 23, 2017 filing in this docket. The technical conference will be held on Wednesday, October 25, 2017 at 9:00 a.m., in a room to be designated at the offices of the Federal Energy Regulatory Commission, 888 First Street NE., Washington, DC 20426.

For interested persons who cannot attend the technical conference, a call-in number has been established. Dial in from your phone:

From within local Wash, DC area 202-502-6888

From outside Local Wash, DC area 1-877-857-1347

Meeting ID: 0255

Dated: October 12, 2017.
Nathaniel J. Davis, Sr.,
Deputy Secretary.

[FR Doc. 2017-22530 Filed 10-17-17; 8:45 am]

BILLING CODE 6717-01-P